Title 3—

The President

Proclamation 10019 of April 30, 2020

National Foster Care Month, 2020

By the President of the United States of America

A Proclamation

Families are the foundation of our communities and our country. All children deserve a stable, supportive, and loving home in which to grow, thrive, and realize their full potential. During National Foster Care Month, we honor the selfless men and women who open their homes to nurture at-risk children and promote healing, unification, and family-based empowerment.

Foster care plays a critical role in providing young people who have had to be removed from their homes a critical place of refuge. It is an invaluable resource for keeping children safe in temporary circumstances and providing stability, direction, and comfort to our Nation's most vulnerable sons and daughters. The dedicated individuals, families, professionals, and faith-based and community organizations who support children in foster care help maintain essential parent-child relationships and support parents working to regain custody of their children.

A focus of my Administration has been to keep families together by working to prevent the situations that necessitate children being removed from their homes. In 2018, I enacted the Family First Prevention Services Act to enhance the ability of American families to keep their children safe at home whenever possible. It provides funding for community-based treatment and intervention services that have been proven to curtail abuse and neglect and to help families address the issues that might require separation. These services include access to skills-based parenting classes, family counseling, mental health therapy, and treatment for substance abuse and addiction. In addition, this legislation encourages States to place children with families rather than in group homes, which can minimize the risk of additional trauma. Last year, I signed into law legislation to encourage States to fully implement the Family First Prevention Services Act as quickly as feasible in order to connect families with appropriate resources and transition to a more proactive and prevention-based system.

In cases where intervention becomes necessary, it is important to place children in the best position to maintain their family, school, and other social connections. It is also critical that older youth in foster care establish permanent bonds with a family member or caring adult before they exit the system and enter adulthood. For these reasons, my Administration is funding programs to provide in-family caregivers with the services and support they need to succeed. In partnership with the States, we are promoting more family-friendly options that reduce additional trauma to the children who must enter foster care.

This month, we encourage all Americans to invest in the lives of children and to provide them with unconditional love, support, guidance, and every available resource to ensure their health and well-being. We acknowledge with gratitude the selfless citizens who open their hearts and homes to children in need and the organizations that tirelessly support foster and kinship caregivers. Together, they are giving hope and the promise of a better tomorrow to countless children and families.

NOW, THEREFORE, I, DONALD J. TRUMP, President of the United States of America, by virtue of the authority vested in me by the Constitution and the laws of the United States, do hereby proclaim May 2020 as National Foster Care Month. I call upon all Americans to observe this month by taking time to help children and youth in foster care, and to recognize the commitment of those who touch their lives, particularly celebrating their foster parents and other caregivers.

IN WITNESS WHEREOF, I have hereunto set my hand this thirtieth day of April, in the year of our Lord two thousand twenty, and of the Independence of the United States of America the two hundred and forty-fourth.

[FR Doc. 2020-09736

Filed 5-4-20; 11:15 am]

Billing code 3295-F0-P